POSTAL RATE COMMISSION

Briefing on OCA Study

AGENCY: Postal Rate Commission.

ACTION: Notice of briefing.

SUMMARY: The Commission's Office of the Consumer Advocate (OCA) will present a briefing on Tuesday, April 9, 2002, beginning at 11 a.m., in the Postal Rate Commission's hearing room. The briefing will address the OCA's recent report on the quality of services the Postal Service provides to the public. The briefing is open to the public. The report is posted on the Commission's Web site (www.prc.gov). It can be accessed by selecting “Consumer Advocate” in the banner and selecting “OCA Papers” in the left-hand frame.

DATES: April 9, 2002.

ADDRESSES: Postal Rate Commission (hearing room), 1333 H Street NW., Washington, DC 20268-0001, suite 300.

FOR FURTHER INFORMATION CONTACT: Stephen L. Sharfman, general counsel, Postal Rate Commission, 202-789-6820.

Steven W. Williams,
Secretary.

[FR Doc. 02-8489 Filed 4-8-02; 8:45 am]

BILLING CODE 7710-FW-M